COMMODITY FUTURES TRADING COMMISSION

Sunshine Act Meetings

FEDERAL REGISTER CITATION OF PREVIOUS ANNOUNCEMENT: 88 FR 74156, October 30, 2023.

PREVIOUSLY ANNOUNCED TIME AND DATE OF THE MEETING: 9:30 a.m. EDT, Wednesday, November 1, 2023.

CHANGES IN THE MEETING: The meeting has been canceled.

CONTACT PERSON FOR MORE INFORMATION: Christopher Kirkpatrick, Secretary of the Commission, 202-418-5964.

Authority: 5 U.S.C. 552b.

Dated: November 1, 2023.
Christopher Kirkpatrick,
Secretary of the Commission.

[FR Doc. 2023-24442 Filed 11-1-23; 11:15 am]

BILLING CODE 6351-01-P